DEPARTMENT OF THE INTERIOR

Bureau of Land Management

[NM-910-03-1020-PG]

Notice of Public Meeting, New Mexico Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) New Mexico Resource Advisory Council (RAC), will meet as indicated below.

DATES: The meeting will be held on January 9-10, 2003, at the Sheraton Uptown, 2600 Louisiana Blvd., Albuquerque, NM beginning at 8 a.m. The meeting will adjourn at approximately 5 p.m. both days. An optional Field Trip is planned for the Placitas area. The three established RAC subcommittees will meet in the late afternoon or evening on Thursday, January 9. The public comment period will begin at 10 a.m. on Friday, January 10, and end at 12 noon.

SUPPLEMENTARY INFORMATION: The 15-member Council advises the Secretary of the Interior, through the Bureau of Land Management, on a variety of planning and management issues associated with public land management in New Mexico. At this meeting, we will have briefings/discussion on:

• Report from the RAC Chairs' and Collaborative Land Use Planning Meetings.

• What is the RAC's role.

• Where can the RAC's influence be most effective over the next 1-2 years.

• Future planning and problem solving.

All meetings are open to the public. The public may present written comments to the Council. Each formal Council meeting will also have time allocated for hearing public comments. Depending on the number of persons wishing to comment and time available, the time for individual oral comments may be limited. New Mexico RAC meetings are coordinated with the representative of the Governor of the State of New Mexico, the Office of the Lieutenant Governor.

FOR FURTHER INFORMATION CONTACT: Theresa Herrera, RAC Coordinator, New Mexico State Office, Office of External Affiars, Bureau of Land Management, P.O. Box 27115, Santa Fe, NM 87502-0115, (505) 438-7517.

Dated: December 6, 2002.
Richard A. Whitley,
Acting State Director.

[FR Doc. 02-31548 Filed 12-13-02; 8:45 am]

BILLING CODE 4310-FB-M